DEPARTMENT OF VETERANS AFFAIRS

Advisory Committee on Former Prisoners of War; Notice of Meeting

The Department of Veterans Affairs (VA) gives notice under the Federal Advisory Committee Act, 5 U.S.C. App. 2, that the meeting of the Advisory Committee on Former Prisoners of War (FPOW), previously scheduled to be held at the Audie Murphy VA Medical Center, 7400 Merton Minter Blvd., San Antonio, TX, on October 5-7, 2015, has been cancelled.

For more information, please contact Mr. Eric Robinson, Designated Federal Officer at (202) 443-6016 or via email at eric.robinson3@va.gov.

Dated: September 16, 2015.
Jelessa Burney,
Federal Advisory Committee Management Officer.

[FR Doc. 2015-23615 Filed 9-18-15; 8:45 am]

BILLING CODE 8320-01-P